NATIONAL AERONAUTICS AND SPACE ADMINISTRATION

[Notice: 05-017]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Room 10236; New Executive Office Building; Washington, DC 20503.

FOR FURTHER INFORMATION CONTACT: Requests for additional information or copies of the information collection instrument(s) and instructions should be directed to Ms. Kathy Shaeffer, Acting NASA Reports Officer, NASA Headquarters, 300 E Street SW., Mail Code V, Washington, DC 20546, (202) 358-1230, kshaeff1@hq.nasa.gov.

SUPPLEMENTARY INFORMATION:

I. Abstract

The National Aeronautics and Space Administration (NASA) is requesting renewal of an existing collection that is used to ensure the proper disposition of rights to inventions made in the course of NASA-funded research. This information is required to monitor contract compliance in support of NASA's mission and in response to procurement requirements.

Collection of the information ensures proper use and disposition of rights in inventions and data developed under NASA contracts. Legal requirements for collection are set forth in 42 U.S.C. 2457, et seq., and 35 U.S. C. 200, et seq., Collection is prescribed in the NASA Federal Acquisition Regulation Supplement, Part 1827, Patents, Data and Copyrights (48 CFR Part 1827).

The information is used by NASA legal and contracting offices to ensure disposition of inventions in accordance with statues and to determine the Government's rights in data.

II. Method of Collection

NASA utilizes paper and electronic methods to collect information from collection respondents.

III. Data

Title: NASA FAR Supplement, Part 1827, Patents, Data, & Copyrights.

OMB Number: 2700-0052.

Type of review: Revision of a currently approved collection.

Affected Public: Business or other for-profit; Not-for-profit institutions; Federal government; State, local, or tribal government .

Estimated Number of Respondents: 2351.

Estimated Time Per Response: Ranges from 1/2 hour to 8 hours per response.

Estimated Total Annual Burden Hours: 8,603.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: January 31, 2005.
Patricia L. Dunnington,
Chief Information Officer.

[FR Doc. 05-2302 Filed 2-4-05; 8:45 am]

BILLING CODE 7510-13-P